DEPARTMENT OF TRANSPORTATION

Federal Aviation Administration

[Docket No. FAA-2026-0925]

Agency Information Collection Activities: Requests for Comments; Clearance of a New Approval of Information Collection: FAA Request Form for CUAS Coordination

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on February 11, 2026. The collection involves data for Counter-Unmanned Aircraft System Deployment. The information to be collected will be used to process interagency and local law enforcement CUAS deployment packages and/or is necessary because FAA coordination is federally mandated.

DATES: Written comments should be submitted by March 3, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Kenneth.seveur@faa.gov; phone: (202) 267-7624

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: FAA Request Form for CUAS Coordination.

Form Numbers: NA.

Type of Review: New information collection.

Background: The Federal Register Notice with a 60-day comment period soliciting comments on the following collection of information was published on February 11, 2026. Interagency CUAS Application Data Collection IAW 10 U.S.C. 130i, 6 U.S.C. 124n, and 50 U.S.C. 2661. Secretary of Defense, Secretary of the Attorney General, the Secretary of Energy, State Local, Tribal, and Territorial Law Enforcement (SLTT) must coordinate with the Secretary of Transportation for certain Title 18 protections under 10 U.S.C. 130i, 6 U.S.C. 124n, and 50 U.S.C. 2661 authorities respectively. This data collection supports these laws.

Respondents: Representatives from the DOD, DOJ, DOE, and SLTTs.

Frequency: As Needed.

Estimated Average Burden per Response: 1 Hour.

Estimated Total Annual Burden: 100 Hours.

Issued in: Washington, DC, on 2/11/2026.
Kenneth P. Seveur,
Air Traffic Control Specialist, Systems Operations Security, FAA, Air Traffic Organization, Systems Operations Security (AJR-263).

[FR Doc. 2026-02954 Filed 2-12-26; 8:45 am]

BILLING CODE 4910-13-P